ENVIRONMENTAL PROTECTION AGENCY

40 CFR Part 52

[FRL-7057-3]

Approval and Promulgation of Implementation Plans: Texas State Implementation Plan—Transportation Control Measures Rule; Removal of Direct Final Rule

AGENCY: Environmental Protection Agency (EPA).

ACTION: Removal of amendments in direct final rule.

SUMMARY: Due to an adverse comment, EPA is removing the direct final rule to approve Texas Transportation Control Measures rule. In the direct final rule published on July 16, 2001 (66 FR 36921), we stated that if we received adverse comment by August 15, 2001, the rule would be withdrawn and would not take effect. EPA subsequently received an adverse comment, but did not publish the withdrawal notice prior to the effective date of the rule. In this action, EPA is removing the amendments published on July 16. EPA will address the comments received in a subsequent final action based upon the proposed action also published on July 16, 2001 (66 FR 36963). EPA will not institute a second comment period on this action.

EFFECTIVE DATE: This rule is effective as of September 27, 2001.

FOR FURTHER INFORMATION CONTACT: Mr. J. Behnam, P. E.; Air Planning Section (6PDL), Multimedia Planning and Permitting Division, Environmental Protection Agency, Region 6, 1445 Ross Avenue, Dallas, Texas 75202, Telephone (214) 665-7247.

List of Subjects in 40 CFR Part 52

Environmental protection, Air pollution control, Air quality-transportation planning, Carbon monoxide, Hydrocarbons, Incorporation by reference, Intergovernmental relations, Nitrogen oxides, Ozone, Particulate matter, Reporting and recordkeeping requirements, Transportation control measures, Volatile organic compounds.

Dated: September 6, 2001.
Lynda F. Carroll,
Acting Regional Administrator, Region 6.

Part 52, chapter I, title 40 of the Code of Federal Regulations is amended as follows:

PART 52—[AMENDED]

1. The authority citation for part 52 continues to read as follows:

Authority: 42 U.S.C. 7401 et seq.

Subpart SS—Texas

2. In § 52.2270 the table in paragraph (c) is amended under Chapter 114 as follows:

(a) by removing Section 114.5, Transportation Planning Definition, under Subchapter A; and

(b) by removing Section 114.270, Transportation Control Measures, under Subchapter G.

3. In § 52.2270 the table in paragraph (e) is amended by removing “Transportation Control Measures SIP Revision”, in the table entitled “EPA Approved Nonregulatory Provisions and Quasi-Regulatory Measures in the Texas SIP.”

[FR Doc. 01-24213 Filed 9-26-01; 8:45 am]

BILLING CODE 6560-50-P